FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 27, 2006.

A. Federal Reserve Bank of St. Louis (Glenda Wilson, Community Affairs Officer) 411 Locust Street, St. Louis, Missouri 63166-2034:

1. Ed Teefey, Mount Sterling, Illinois, to acquire additional voting shares of Mount Sterling Bancorp, Inc, Mount Sterling, Illinois, and thereby indirectly acquire additional voting shares of Farmers State Bank & Trust Company, Mount Sterling, Illinois.

B. Federal Reserve Bank of Minneapolis (Jacqueline G. King, Community Affairs Officer) 90 Hennepin Avenue, Minneapolis, Minnesota 55480-0291:

1. E. Kent Christian, Kiester, Minnesota, individually and as part of a group acting in concert with the Edward T. Christian Revocable Trust, Albert Lea, Minnesota, co-trustees E. Kent Christian and Edna Christian, Albert Lea, Minnesota, independent trustee Fred Freidrichsen, Glenville, Minnesota, and Edna Christian, individually, to acquire voting shares of Kiester Investments, Inc, Kiester, Minnesota, and thereby indirectly acquire voting shares of First State Bank Kiester, Kiester, Minnesota.

Board of Governors of the Federal Reserve System, November 7, 2006.
Robert deV. Frierson,
Deputy Secretary of the Board.

[FR Doc. E6-19093 Filed 11-9-06; 8:45 am]

BILLING CODE 6210-01-S